INTERNATIONAL TRADE COMMISSION

[Investigations Nos. 731-TA-846, 848 and 849 (Final)]

Certain Seamless Carbon and Alloy Steel Standard, Line, and Pressure Pipe From the Czech Republic, Mexico, and Romania; Determinations

On the basis of the record ¹ developed in the subject investigations, the United States International Trade Commission determines, pursuant to section 735(b) of the Tariff Act of 1930 (19 U.S.C. 1673d(b)) (the Act), that an industry in the United States is materially injured by reason of imports from the Czech Republic and Romania of certain small diameter seamless carbon and alloy steel standard, line, and pressure pipe (“small diameter pipe”), provided for in subheadings 7304.10.10, 7304.10.50, 7304.31.30, 7304.31.60, 7304.39.00, 7304.51.50, 7304.59.60, and 7304.59.80 of the Harmonized Tariff Schedule of the United States, that have been found by the Department of Commerce to be sold in the United States at less than fair value (LTFV).²

The Commission made a negative determination concerning critical circumstances relating to imports from the Czech Republic. The Commission also determines that an industry in the United States is materially injured by reason of imports from Mexico of certain large diameter seamless carbon and alloy steel standard, line, and pressure pipe (“large diameter pipe”), provided for in subheadings 7304.10.10, 7304.10.50, 7304.31.60, 7304.39.00, 7304.51.50, 7304.59.60, and 7304.59.80 of the Harmonized Tariff Schedule of the United States, that have been found by the Department of Commerce to be sold in the United States at LTFV.³

¹ The record is defined in sec. 207.2(f) of the Commission's Rules of Practice and Procedure (19 CFR 207.2(f)).

² Commissioners Jennifer A. Hillman and Thelma J. Askey dissenting with respect to small diameter pipe of alloy steel. They determine that imports of such pipe from the Czech Republic and Romania are negligible.

³ Commissioner Thelma J. Askey dissenting with respect to large diameter pipe of alloy steel. She determines that imports of such pipe from Mexico are negligible.

Background

The Commission instituted these investigations effective June 30, 1999, following receipt of a petition filed with the Commission and the Department of Commerce by counsel for Koppel Steel Corp., Beaver Falls, PA; Sharon Tube Co., Sharon, PA; U.S. Steel Group, Fairfield, AL; USS/Kobe Steel Co., Lorain, OH; and Vision Metals' Gulf States Tube Div., Rosenberg, TX. The final phase of the investigations was scheduled by the Commission following notification of preliminary determinations by the Department of Commerce that imports of small diameter pipe from the Czech Republic and Romania and large diameter pipe from Mexico were being sold at LTFV within the meaning of section 733(b) of the Act (19 U.S.C. 1673b(b)).

Notice of the scheduling of the Commission's investigations and of a public hearing to be held in connection therewith was given by posting copies of the notice in the Office of the Secretary, U.S. International Trade Commission, Washington, DC and by publishing the notice in the Federal Register of February 25, 2000 (65 FR 10107). The hearing was held in Washington, DC on May 4, 2000, and all persons who requested the opportunity were permitted to appear in person or by counsel.

The Commission transmitted its determinations in these investigations to the Secretary of Commerce on August 2, 2000. The views of the Commission are contained in USITC Publication 3325 (August 2000), entitled Certain Seamless Carbon and Alloy Steel Standard, Line, and Pressure Pipe From the Czech Republic, Mexico, and Romania: Investigations Nos. 731-TA-846, 848 and 849 (Final).

By order of the Commission.
Issued: August 3, 2000.
Donna R. Koehnke,
Secretary.

[FR Doc. 00-20113 Filed 8-8-00; 8:45 am]

BILLING CODE 7020-02-P